DEPARTMENT OF HEALTH AND HUMAN SERVICES

Health Resources and Services Administration

Agency Information Collection Activities: Submission to OMB for Review and Approval; Public Comment Request; COVID-19 Provider Relief Programs Single and Commercial Audits and Delinquent Audit Reporting Submission Activities—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than September 11, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: COVID-19 Provider Relief Programs Single and Commercial Audits and Delinquent Audit Reporting Submission Activities, OMB No. 0906-0083—Revision

Abstract: The Coronavirus Aid, Relief, and Economic Security Act (Pub. L. 116-136); the Paycheck Protection Program and Health Care Enhancement Act (Pub. L. 116-139); the Coronavirus Response and Relief Supplemental Appropriations Act (Pub. L. 116-260); the Families First Coronavirus Response Act (Pub. L. 116-127); and the American Rescue Plan Act of 2021 (Pub. L. 117-2) provided the Department of Health and Human Services the authority to administer the Provider Relief Programs (PRP) (i.e., Provider Relief Fund; American Rescue Plan Act Rural Distribution; COVID-19 Coverage Assistance Fund; and COVID-19 Claims Reimbursement to Health Care Providers and Facilities for Testing, Treatment, and Vaccine Administration for the Uninsured). The Department of Health and Human Services, through HRSA, administered the PRP. The PRP issued payments to eligible health care providers for expenses or lost revenues attributable to COVID-19 and claims reimbursement for COVID-19 testing, treatment, and vaccine administration for uninsured individuals. Recipients of these funds agreed to the Terms and Conditions applicable to each Program, which require, among other Terms, compliance with reporting requirements as specified by the Secretary of Health and Human Services and the statues listed above. Recipients are eligible health care providers who include public entities, Medicare or Medicaid enrolled suppliers and providers, and for-profit and non-profit entities that provide diagnosis, testing, vaccination, or care for individuals with possible or actual cases of COVID-19. The Single Audit Act requires entities that expend $750,000 or more of federal assistance during the entity's fiscal year to conduct an independent audit. Requirements for these audits are set forth in regulations at 45 CFR Subpart F. Requirements differ for non-profit and commercial/for-profit entities, and non-profit entities are required to submit their audits to the Federal Audit Clearinghouse. HRSA has established a Commercial Audit Reporting Portal to collect audits from commercial/for-profit organizations. In late calendar year 2023, HRSA developed a delinquent audit follow-up process to ensure that all providers required to submit an audit do so. The delinquent audit follow-up process includes educating PRP recipients on the 45 CFR 75 Subpart F requirements and following up on overdue audit report submissions. In February 2024, OMB approved HRSA's emergency ICR for the Commercial Audit Reporting Portal and the delinquent audit follow-up process. Collectively, these activities will help ensure the fiscal and program integrity of the PRP.

A 60-day notice published in the Federal Register on May 2, 2024, vol. 89, No. 86; pp. 35842-35843. There were no public comments.

Need and Proposed Use of the Information: HRSA will use the collected information to ensure all PRP recipients who expended over $750,000 in funding during the recipient's fiscal year submit an audit and resolve audit findings, which may include recovery of any funds used not in accordance with the Terms and Conditions of the programs.

Likely Respondents: PRP recipients who expended over $750,000 in funding during their fiscal year.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The February 2024 emergency ICR also included the Commercial Audit Compliance and Delinquent Audit Follow-up General and Targeted emails, which will continue to be used. These burden hours associated with these emails were erroneously left out of burden table in the 60-day notice and have been added back into the 30-day Federal Register notice. The Delinquent Audit Follow-up General Email Blast was also updated to include more details regarding audit requirements for PRP payments.

Total Estimated Annualized Burden Hours:

Form name | Number of respondents | Number of responses per respondent | Total responses | Average burden per response (in hours) | Total burden hours
Provider Relief Bureau Commercial Audit Reporting Portal | 21,000 | 1 | 21,000 | 0.75 | 15,750
Commercial Audit Compliance Email | 500 | 1 | 500 | 0.25 | 125
Delinquent Audit Follow-up General Email Blast and Attestation | 42,000 | 6 | 252,000 | 0.25 | 63,000
Delinquent Audit Follow-up Targeted Email and Attestation | 21,000 | 2 | 42,000 | 0.25 | 10,500
Questioned Cost Attestation | 7,000 | 10 | 70,000 | 5.00 | 350,000
Total | 91,500 |  | 385,500 |  | 439,375

Maria G. Button,
Director, Executive Secretariat.

[FR Doc. 2024-17907 Filed 8-9-24; 8:45 am]

BILLING CODE 4165-15-P